NATIONAL AERONAUTICS AND SPACE ADMINISTRATION

[Notice 03-018]

Government-Owned Inventions, Available for Licensing

ACTION: Notice of availability of inventions for licensing.

SUMMARY: The inventions listed below are assigned to the National Aeronautics and Space Administration, have been filed in the United States Patent and Trademark Office, and are available for licensing.

DATES: February 26, 2003.

FOR FURTHER INFORMATION CONTACT: Kent N. Stone, Patent Counsel, Glenn Research Center at Lewis Field, Mail Code 500-118, Cleveland, OH 44135; telephone (216) 433-8855, fax (216) 433-6790.

NASA Case No. LEW-16901-1: A Real-Time Signal-To-Noise Ratio Estimation Technique For BPSK And QPSK Modulation Using The Active Communications Channel;

NASA Case No. LEW-17176-1: Endwall Treatment And Method For Gas Turbines;

NASA Case No. LEW-17235-1: Resistance Temperature Detector (RTD) Bridge Flow Sensor;

NASA Case No. LEW-17236-1: Computer Mouse Cleaning Apparatus;

NASA Case No. LEW-17237-1: Lateral Movement Of Screw Dislocations During Homoepitaxial Growth And Device Yielded Therefrom Free Of The Detrimental Effects Of Screw Dislocation;

NASA Case No. LEW-17256-1: MEMS Direct Chip Attach (MEMS-DCA) Packaging Methodologies For Harsh Environments;

NASA Case No. LEW-17318-1: A High Temperature, High Versatility Nickel-Base Disk Alloy.

Dated: February 19, 2003.
Robert M. Stephens,
Deputy General Counsel.

[FR Doc. 03-4431 Filed 2-25-03; 8:45 am]

BILLING CODE 7510-01-P